DEPARTMENT OF LABOR

Employment and Training Administration

[TA-W-42,344]

Hitachi High Technologies America, Inc., San Jose, CA; Notice of Termination of Investigation

Pursuant to Section 221 of the Trade Act of 1974, as amended, an investigation was initiated on November 1, 2002, in response to a worker petition filed by the company on behalf of workers at Hitachi High Technologies America, Inc., San Jose, California.

The subject firm requested that the existing petition be terminated. Consequently, further investigation would serve no purpose, and the investigation has been terminated.

Signed at Washington, DC this 20th day of December, 2002.
Elliott S. Kushner,
Certifying Officer, Division of Trade Adjustment Assistance.

[FR Doc. 03-403 Filed 1-8-03; 8:45 am]

BILLING CODE 4510-30-P